DEPARTMENT OF ENERGY

Federal Energy Regulatory Commission

[Project No. 14346-000]

Southern Energy, Inc.; Notice of Preliminary Permit Application Accepted for Filing and Soliciting Comments, Motions To Intervene, and Competing Applications

On January 11, 2012, Southern Energy, Inc. filed an application for a preliminary permit, pursuant to section 4(f) of the Federal Power Act (FPA), proposing to study the feasibility of the Walker Lake Hydroelectric Project (Walker Lake Project or project) to be located on Walker Lake, near Haines, Haines Borough, Alaska. The sole purpose of a preliminary permit, if issued, is to grant the permit holder priority to file a license application during the permit term. A preliminary permit does not authorize the permit holder to perform any land-disturbing activities or otherwise enter upon lands or waters owned by others without the owners' express permission.

The proposed project would utilize the existing Walker Lake and would consist of the following new features: (1) Two rockfilled dams approximately 15-foot-wide, 250- and 325-foot-long, respectively making usable capacity of Walker Lake to be 4,300 acre-feet at a normal maximum operating elevation of 1,195 feet mean sea level (msl); (2) a concrete spillway and diversion channel for controlled releases to Walker Creek; (3) a freestanding concrete intake and reservoir outlet works at elevation 1,170 feet msl diverting flow from the southeast dam into the penstock; (4) a 24-inch-diameter, 12,000-foot-long penstock, of which approximately 10,000 feet will be buried and 2,000 feet will be aboveground; (5) a powerhouse containing one generating unit rated for one megawatt at 780 feet of net head; (6) a 50-foot-long tailrace connecting the powerhouse with the Little Salmon River; (7) an underground 4-mile-long, 12.5-kilovolt (kV) transmission line extending from the project to a transmission line owned by Inside Passage Electric Cooperative (the point of interconnection); and (8) appurtenant facilities. The estimated annual generation of the Walker Lake Project would be 3,615 megawatt-hours.

Applicant Contact: Mr. Darrell Maple, President, Lynn Canal Professional Services, 660 S. Oregon Street, Jacksonville, Oregon, 97530; phone: (541) 261-3764.

FERC Contact: Kelly Wolcott; phone: (202) 502-6480.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14346) in the docket number field to access the document. For assistance, contact FERC Online Support.

Dated: March 15, 2012.
Kimberly D. Bose,
Secretary.

[FR Doc. 2012-7148 Filed 3-23-12; 8:45 am]

BILLING CODE 6717-01-P